DEPARTMENT OF ENERGY

Federal Energy Regulatory Commission

[Docket No. CP01-6-000]

Gulf South Pipeline Company, LP, Koch Gateway Pipeline Company; Notice of Application

October 17, 2000.

Take notice that on October 6, 2000, Gulf South Pipeline Company, LP (Gulf South) and Koch Gateway Pipeline Company (Koch) (Applicants), both located at 20 East Greenway Plaza, Houston, Texas, 77046, filed in the above docket, an application pursuant to Section 7(b) and 7(c) of the Natural Gas Act to permit Koch, as a result of its change in corporate form from a corporation to a limited partnership, to abandon its jurisdictional assets and services and Gulf South to acquire these same jurisdictional assets and services, all as more fully set forth in the application on file with the Commission and open to public inspection. The application may be viewed on the web at http://www.ferc/fed.us/online/rims.htm. Call (202) 208-2222 for assistance.

Koch states that as a result of this conversion, its corporate name will change to Gulf South, but the same corporate legal entity will continue to own and operate Koch's facilities pursuant to the same rates, terms and conditions previously approved by the Commission. The Applicants state that the authorizations requested in the application are required by the present and future public convenience and necessity and will not adversely affect Koch's customers or the services they receive on the pipeline as all rates and services will remain unchanged. The Applicants state that they request the Commission to grant the requested amendment to Koch's existing certificate of public convenience and necessity on an expedited basis, no later than November 15, 2000 which will be the first day of operation after the jurisdictional assets are conveyed to Gulf South. It is stated that any questions regarding the application should be directed to Michael E. McMahon, Senior Vice President and General Counsel, Koch Gateway Pipeline Company, 20 East Greenway Plaza, Houston, Texas, 77046 at (713) 544-4796.

Any person desiring to be heard or to make any protest with reference to said Application should on or before October 27, 2000, file with the Federal Energy Regulatory Commission, Washington, DC 20426, a motion to intervene or a protest in accordance with the requirements of the Commission's Rules of Practice and Procedure (18 CFR 385.214 or 385.211) and the Regulations under the Natural Gas Act (18 CFR 157.10) All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this Application if no motion to intervene is filed within the time required herein, if the Commission on its own review of the matter finds that a grant of the certificate and permission and approval for the proposed transfer are required by the public convenience and necessity. If a motion for leave to intervene is timely filed, or if the Commission on its own motion believes that a formal hearing is required, further notice of such hearing will be duly given.

Under the procedure herein provided for, unless otherwise advised, it will be unnecessary for Applicants to appear or be represented at the hearing.

Lindwood A. Watson, Jr.,
Acting Secretary.

[FR Doc. 00-27124 Filed 10-20-00; 8:45 am]

BILLING CODE 6717-01-M